NATIONAL SCIENCE FOUNDATION

Availability of Guidelines for Ensuring and Maximizing the Quality, Objectivity, Utility, and Integrity of Information Disseminated by the National Science Foundation

AGENCY: National Science Foundation.

ACTION: Notice of availability of guidelines.

SUMMARY: The National Science Foundation hereby announces the availability of its information quality guidelines on its website. The guidelines contain NSF's standards of quality, utility, objectivity, and integrity for information that is disseminated to the public, and the administrative procedures for preparing, reviewing, and disseminating information products. The guidelines also describe the mechanisms for the public to request correction of information, and to request reconsideration of an NSF decision to deny a request for correction. The report will be available electronically at http://www.nsf.gov/home/pubinfo/infoqual.htm on October 1, 2002.

DATES: The information quality guidelines will be effective as of October 1, 2002.

FOR FURTHER INFORMATION CONTACT: Section 515 Information Quality Officer; 4201 Wilson Blvd., Suite 305; Arlington, VA 22230; electronic mail to infoqual1515@nsf.gov, or via fax to (703) 292-9084. Individuals who use a telecommunications device for the deaf (TDD) may call the Federal Information Relay Service (FIRS) at 1-800-877-8339 between 8 a.m. and 8 p.m., Eastern time, Monday through Friday.

SUPPLEMENTARY INFORMATION: The Office of Management and Budget (OMB) issued Government-wide guidelines under section 515 of the Treasury and General Government Appropriations Act for Fiscal Year 2001 (Pub. L. 106-554) to ensure and maximize the quality, objectivity, utility and integrity of information disseminated by Federal agencies. Each Federal agency is responsible for issuing its own section 515 guidelines. Subsequently, the National Science Foundation developed corresponding information quality guidelines.

Dated: September 24, 2002.
Suzanne H. Plimpton,
Reports Clearance Officer, National Science Foundation.

[FR Doc. 02-24679 Filed 9-27-02; 8:45 am]

BILLING CODE 7555-01-M